SURFACE TRANSPORTATION BOARD

[Docket No. AB 400 (Sub-No. 7X)]

Seminole Gulf Railway, L.P.—Exempt Abandonment—in Sarasota County, Fla.

Seminole Gulf Railway, L.P. (SGLR), has filed a verified notice of exemption under 49 CFR pt. 1152 subpart F—Exempt Abandonments to abandon an approximately 7.68-mile segment of its rail line known as the Venice Branch. The segment to be abandoned extends between milepost SW 890.29 on the north side of Ashton Road and milepost SW 884.70, and between milepost AZA 930.30 and milepost AZA 928.21 on the north side of State Highway 780 (Fruitville Road), partly lying within the City of Sarasota, Sarasota County, Fla., with the remainder lying within unincorporated Sarasota County (the Line). The Line traverses U.S. Postal Service Zip Codes 34232, 34233, and 34237.¹

¹ SGLR originally filed its verified notice on March 8, 2019. By letter filed on March 18, 2019, SGLR notified the Board that the verified notice inadvertently included an incorrect Zip Code and requested that the Board hold the proceeding in abeyance to allow the correction to be made and the required notice periods satisfied. That request was granted, subject to receipt of a supplemental filing. SGLR submitted that filing on March 26, 2019, and that date therefore is considered the verified notice's filed date and the basis for all dates in this notice.

SGLR has certified that: (1) No local freight traffic has moved over the Line for at least two years; (2) because the Line is stub-ended (not a through line), there is no overhead traffic to be rerouted over other lines; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7 and 1105.8 (environmental report and historic report), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ² has been received, this exemption will be effective on May 15, 2019, unless stayed pending reconsideration. Petitions to stay that do not involve environmental issues,³ formal expressions of intent to file an OFA under 49 CFR 1152.27(c)(2),⁴ and trail use/rail banking requests under 49 CFR 1152.29 must be filed by April 25, 2019. Petitions for reconsideration or requests for public use conditions under 49 CFR 1152.28 must be filed by May 6, 2019, with the Surface Transportation Board, 395 E Street SW, Washington, DC 20423-0001.

² The Board modified its OFA procedures effective July 29, 2017. Among other things, the OFA process now requires potential offerors, in their formal expression of intent, to make a preliminary financial responsibility showing based on a calculation using information contained in the carrier's filing and publicly available information. See Offers of Financial Assistance, EP 729 (STB served June 29, 2017); 82 FR 30997 (July 5, 2017).

³ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁴ Each OFA must be accompanied by the filing fee, which is currently set at $1,800. See 49 CFR 1002.2(f)(25).

A copy of any petition filed with the Board should be sent to SGLR's representative, Eric M. Hocky, Clark Hill PLC, One Commerce Square, 2005 Market Street, Suite 1000, Philadelphia, PA 19103.

If the verified notice contains false or misleading information, the exemption is void ab initio.

SGLR has filed a combined environmental and historic report that addresses the potential effects, if any, of the abandonment on the environment and historic resources. OEA will issue an environmental assessment (EA) by April 19, 2019. The EA will be available to interested persons on the Board's website, by writing to OEA, or by calling OEA at (202) 245-0305. Assistance for the hearing impaired is available through the Federal Relay Service at (800) 877-8339. Comments on environmental and historic preservation matters must be filed within 15 days after the EA becomes available to the public.

Environmental, historic preservation, public use, or trail use/rail banking conditions will be imposed, where appropriate, in a subsequent decision.

Pursuant to the provisions of 49 CFR 1152.29(e)(2), SGLR shall file a notice of consummation with the Board to signify that it has exercised the authority granted and fully abandoned the Line. If consummation has not been effected by SGLR's filing of a notice of consummation by April 15, 2020, and there are no legal or regulatory barriers to consummation, the authority to abandon will automatically expire.

Board decisions and notices are available at www.stb.gov.

Decided: April 9, 2019.
By the Board, Allison C. Davis, Acting Director, Office of Proceedings.
Raina Contee,
Clearance Clerk.

[FR Doc. 2019-07443 Filed 4-12-19; 8:45 am]

BILLING CODE 4915-01-P